FEDERAL DEPOSIT INSURANCE CORPORATION

[OMB No. 3064-0046; -0118; -0191]

Agency Information Collection Activities: Proposed Collection Renewal; Comment Request

AGENCY: Federal Deposit Insurance Corporation (FDIC).

ACTION: Agency Information Collection Activities: submission for OMB review; comment request.

SUMMARY: The FDIC, as part of its obligations under the Paperwork Reduction Act of 1995, invites the general public and other Federal agencies to take this opportunity to comment on the request to renew the existing information collections described below (OMB Control No. 3064-0046, -0118 and -0191). The notice of the proposed renewal for these information collections was previously published in the Federal Register on July 22, 2022, allowing for a 60-day comment period.

DATES: Comments must be submitted on or before October 31, 2022.

ADDRESSES: Interested parties are invited to submit written comments to the FDIC by any of the following methods:

• Agency website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Home Mortgage Disclosure (HMDA).

OMB Number: 3064-0046.

Form Number: None.

Affected Public: Insured state nonmember banks.

Burden Estimate:

Summary of Annual Burden
[OMB 3064-0046]
Item | IC description (section) | Type of burden (frequency of response) | Obligation to respond | Estimated annual number of respondents | Estimated annual number of responses per respondent | Estimated time per response (hours) | Total annual estimated burden hours
Burden Calculation (OMB No. 3064-0046)
1 | Full Data—HMDA (12 CFR Part 1003.4) | Reporting (Annual) | Mandatory | 350 | 2,434.66 | 0.583 | 496,792
2 | Partial Data—HMDA (12 CFR Part 1003.4) | Reporting (Annual) | Mandatory | 760 | 330.1 | 0.333 | 83,542
3 | Retain copy of LAR for at least three years (12 CFR Part 1003.5(a)(1)(i)) | Recordkeeping (Annual) | Mandatory | 1,110 | 1 | 0.5 | 555
4 | Make the written notices required under 1003.5(2)(b) and 1003.5(c)(1) available for five and three years, respectively (12 CFR Part 1003.5(d)(1)) | Recordkeeping (Annual) | Mandatory | 1,110 | 2 | 0.167 | 371
5 | Record LAR data within 30 days after the end of the calendar quarter in which final action is taken (New reporters) (12 CFR Part 1003.4(f)) | Recordkeeping (One time) | Mandatory | 15 | 1 | 12 | 180
6 | Record LAR data within 30 days after the end of the calendar quarter in which final action is taken (Existing reporters) (12 CFR Part 1003.4(f)) | Recordkeeping (Quarterly) | Mandatory | 1,110 | 4 | 1.5 | 6,660
7 | Provide written notice upon request that the FFIEC disclosure statement is available on the CFPB's website (12 CFR Part 1003.5(b)(2)) | Third-party Disclosure (Annual) | Mandatory | 1,110 | 1 | 0.5 | 555
8 | Provide written notice upon request that the institution's modified LAR is available on the CFPB's website (12 CFR Part 1003.5(c)(1)) | Third-party Disclosure (On Occasion) | Mandatory | 1,110 | 1 | 0.5 | 555
9 | Make the FFIEC disclosure statement and/or modified LAR available to the public directly through the institution (12 CFR Part 1003.5(d)(2)) | Third-party Disclosure (On Occasion) | Optional | 55 | 1 | 1 | 55
10 | General notice of availability of HMDA data in lobby of home office and each office located in a MSA (12 CFR Part 1003.5(e)) | Third-party Disclosure (One time) | Mandatory | 15 | 1 | 1 | 15
Total Estimated Annual Burden Hours: |  |  |  |  |  |  | 589,280

General Description of Collection: The Board of Governors of the Federal Reserve System (the Board) promulgated Regulation C, 12 CFR part 203, to implement the Home Mortgage Disclosure Act (HMDA), 12 U.S.C. 2801-2810. Regulation C requires depository institutions that meet its asset-size threshold to maintain data about home loan applications (the type of loan requested, the purpose of the loan, whether the loan was approved, and the type of purchaser if the loan was later sold), to update the information quarterly, and to report the information annually. Pursuant to Regulation C, insured state-nonmember banks supervised by the FDIC with assets over a certain dollar threshold must collect, record, and report data about home loan applications. The FDIC is revising this information collection to align the burden estimates with the Board, the Office of the Comptroller of the Currency and the Consumer Financial Protection Bureau. In doing so, the FDIC has added eight line items to its information collection and has revised the estimated time per response for certain items for consistency across all agencies. This has resulted in an increase of approximately 500,000 hours in the total estimated annual burden.

2. Title: Management Official Interlocks.

OMB Number: 3064-0118.

Form Number: None.

Affected Public: Insured state nonmember banks and state savings associations.

Burden Estimate:

Summary of Estimated Annual Burden (OMB No. 3064-0118)
Information collection description | Type of burden (obligation to respond) | Frequency of response | Number of respondents | Number of responses per respondent | Hours per response | Annual burden (hours)
Management Official Interlocks | Reporting (Mandatory) | On Occasion | 1 | 1 | 4 | 4
Management Official Interlocks | Recordkeeping (Mandatory) | On Occasion | 1 | 1 | 3 | 3
Estimated Total Annual Burden |  |  |  |  |  | 7
Source: FDIC.

General Description of Collection: The FDIC's Management Official Interlocks regulation, 12 CFR 348, which implements the Depository Institutions Management Interlocks Act (DIMIA), 12 U.S.C. 3201-3208, generally prohibits bank management officials from serving simultaneously with two unaffiliated depository institutions or their holding companies but allows the FDIC to grant exemptions in appropriate circumstances. Consistent with DIMIA, the FDIC's Management Official Interlocks regulation has an application requirement requiring information specified in the FDIC's procedural regulation. The rule also contains a notification requirement. There is no change in the method or substance of the collection. The overall reduction in burden hours is a result of economic fluctuations. In particular, the number of respondents has decreased while the hours per response and occupational distribution have remained the same.

3. Title: Interagency Guidance on Leveraged Lending.

OMB Number: 3064-0191.

Form Number: None.

Affected Public: Insured state nonmember banks and savings associations.

Burden Estimate:

Summary of Estimated Annual Burden
[OMB No. 3064-0191]
Information collection (ic) description | Type of burden (obligation to respond) | Frequency of response | Estimated number of respondents | Estimated frequency of responses | Estimated time per response (hours) | Total estimated annual burden (hours)
Interagency Guidance on Leveraged Lending—Implementation | Recordkeeping (Voluntary) | On Occasion | 1 | 1 | 987 | 987
Interagency Guidance on Leveraged Lending—Ongoing | Recordkeeping (Voluntary) | On Occasion | 4 | 0.25 | 529 | 529
Estimated Total Annual Burden |  |  |  |  |  | 1,516
Source: FDIC.

General Description of Collection:: The Interagency Guidance on Leveraged Lending (Guidance) outlines for agency supervised institutions high level principles related to safe-and sound leveraged lending activities, including underwriting considerations, assessing and documenting enterprise value, risk management expectations for credits awaiting distribution, stress testing expectations, pipeline portfolio management, and risk management expectations for exposures held by the institution. There is no change in the method or substance of the collection. The overall reduction in burden hours is the result of economic fluctuation. In particular, the number of respondents and frequency of responses have decreased.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on September 27, 2022.
James P. Sheesley,
Assistant Executive Secretary.

[FR Doc. 2022-21243 Filed 9-29-22; 8:45 am]

BILLING CODE 6714-01-P